DEPARTMENT OF ENERGY

Federal Energy Regulatory Commission

[Docket No. RP05-317-001]

Texas Gas Transmission, LLC; Motion To Place Suspended Tariff Sheets Into Effect

November 1, 2005.

Take notice that on October 27, 2005, Texas Gas Transmission, LLC, Texas Gas tendered for filing as part of its FERC Gas Tariff, Second Revised Volume No. 1.

Texas Gas states that this motion rate filing is being made to place the suspended revised tariff sheets in Appendix A to the filing, into effect on November 1, 2005, in compliance with the Commission's Order issued May 31, 2005, in Docket No. RP05-317 at 111 FERC Paragraph ¶ 61,302 (2005). Texas Gas requests an effective date of November 1, 2005, for the proposed tariff sheets.

Texas Gas further states that it has served copies of this filing upon the company's jurisdictional customers, interested State commission, and all parties appearing on the official restricted service list.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on November 7, 2005.

Magalie R. Salas,
Secretary.

[FR Doc. E5-6161 Filed 11-4-05; 8:45 am]

BILLING CODE 6717-01-P